DEPARTMENT OF AGRICULTURE

Agricultural Marketing Service

[No. LS-04-12]

Notice of Opportunity to Participate in the Lamb Promotion, Research, and Information Program Referendum

AGENCY: Agricultural Marketing Service, USDA.

ACTION: Notice.

SUMMARY: The Agricultural Marketing Service (AMS) is announcing that a referendum will be conducted under the Lamb Promotion, Research, and Information Order (Order) to determine whether those persons voting favor the continuance of the Order.

DATES: This referendum will be conducted during a 4-week period beginning on January 31, 2005, and ending on February 28, 2005. To be eligible to participate in the referendum, persons must certify and provide supporting documentation that shows them, or the entity they are authorized to represent, have been engaged in the production, feeding, or slaughter of lambs between January 1, 2004, and December 31, 2004.

Form LS-86, Lamb Promotion, Research, and Information Referendum, may be obtained by mail, fax, or in person from the Farm Service Agency (FSA) county offices from January 1, 2005, through February 28, 2005. Form LS-86 may also be obtained via the Internet at: http://www.ams.usda.gov/lsg/mpb/rp-lamb.htm during the same time period. Completed forms and supporting documentation must be returned to the appropriate county FSA offices by fax or in person no later than close of business February 28, 2005, or if returned by mail must be postmarked by midnight February 28, 2005, and received in the county FSA office by close of business on March 7, 2005.

FOR FURTHER INFORMATION CONTACT: Kenneth R. Payne, Chief; Marketing Programs Branch, Livestock and Seed Program; Agricultural Marketing Service (AMS), USDA, Room 2638-S; STOP 0251; 1400 Independence Avenue, SW.; Washington, DC. 20250-0251, telephone number 202/720-1115, fax number 202/720-1125, or by e-mail at: Kenneth.Payne@usda.gov or Linda Cronin; DAFO, USDA, FSA; STOP 0542; 1400 Independence Avenue, SW.; Washington, DC 20250-0542, telephone number 202/690-8034, fax number 202/720-5900, or by e-mail at: Linda.Cronin@usda.gov.

SUPPLEMENTARY INFORMATION: Pursuant to the Commodity Promotion, Research, and Information Act of 1996 (Act) (7 U.S.C. 7411-7425), it is hereby directed that a referendum be conducted to ascertain whether continuance of the Order is favored by those persons who have been engaged in the production, feeding, or slaughtering of lamb from January 1, 2004, through December 31, 2004.

The representative period for establishing voter eligibility for the referendum shall be the period from January 1, 2004, through December 31, 2004. Persons who were engaged in the production, feeding, or slaughtering of lambs and who provide documentation, such as a sales receipt or remittance form, showing that they were engaged in the production, feeding, or slaughter of lambs from January 1, 2004, through December 31, 2004, are eligible to vote.

Eligible voters will be provided the opportunity to vote at the county FSA office where FSA maintains and processes the eligible voter's administrative farm records. For the eligible voter not participating in FSA programs, the opportunity to vote will be provided at the FSA office serving the county where the person owns or rents land. Participation in the referendum is not mandatory.

Elsewhere in this separate part of the Federal Register, USDA is publishing a final rule that sets forth procedures that will be used in conducting the referendum. The final rule includes definitions, provisions for supervising the referendum process, eligibility, procedures for obtaining and completing the form LS-86, required documentation showing that the person was engaged in the production, feeding, or slaughter of lambs from January 1, 2004, through December 31, 2004, where the referendum will be conducted, counting and reporting results, and disposition of the forms and records. Since the referendum will be conducted at the county FSA offices, FSA employees will assist AMS by determining eligibility, counting requests, and reporting results.

Pursuant to the Act, USDA is conducting the required referendum from January 31, 2005, through February 28, 2005.

Form LS-86 may be requested in person, by mail, or by facsimile from January 31, 2005 through February 28, 2005. Form LS-86 may also be obtained via the Internet at: http://www.ams.usda.gov/lsg/mpb/rp-lamb.htm during the same 4-week period. Eligible voters would vote at the FSA office where FSA maintains and processes the person's, corporation's, or other entity's administrative farm records. For the person, corporation, or other entity eligible to vote that does not participate in FSA programs, the opportunity to vote would be provided at the FSA office serving the county where the person, corporation, or other entity owns or rents land.

Voters can determine the location of county FSA offices by contacting (1) the nearest FSA office, (2) the State FSA office, or (3) through an online search of FSA's website at: http://www.fsa.usda.gov/pas/default.asp. From the options available on this Web site select “Your local office,” click on your State, and click on the map to select a county.

Form LS-86 and supporting documentation may be returned in person, by mail, or facsimile to the appropriate county FSA office. Form LS-86, and accompanying documentation returned in person or by facsimile, must be received in the appropriate FSA office prior to the close of business on February 28, 2005. Form LS-86 and accompanying documentation returned by mail must be postmarked no later than midnight of February 28, 2005, and received in the county office by close of business on March 7, 2005.

In accordance with Paperwork Reduction Act (44 U.S.C. Chapter 35), the information collection requirements have been approved under OMB number 0581-0227.

Authority: 7 U.S.C. 7411-7425.

Dated: December 20, 2004.
A.J. Yates,
Administrator, Agricultural Marketing Service.

[FR Doc. 04-28165 Filed 12-21-04; 11:38 am]

BILLING CODE 3410-02-P